ENVIRONMENTAL PROTECTION AGENCY

[OW-2003-0081, FRL-7617-3]

Agency Information Collection Activities: Proposed Collection; Comment Request; Survey Questionnaire To Determine the Effectiveness, Costs, and Impacts of Sewage and Graywater Treatment Devices for Large Cruise Ships Operating in Alaska, EPA ICR Number OW-2003-0014, OMB Control Number 20XX-XXXX

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before April 5, 2004.

ADDRESSES: Submit your comments, referencing docket ID number OW-2003-0081, to EPA online using EDOCKET (our preferred method), by e-mail to ow-docket@epa.gov, or by mail to: EPA Docket Center, Environmental Protection Agency, EPA Docket Center, Environmental Protection Agency, Water Docket, EPA West, 4101T, 1200 Pennsylvania Ave., NW., Washington, DC 20460.

FOR FURTHER INFORMATION CONTACT: Elizabeth Kim, Oceans and Coastal Protection Division, Office of Water, 4504T, Environmental Protection Agency, 1200 Pennsylvania Ave., NW., Washington, DC 20460; telephone number: (202) 566-1270; fax number: (202) 566-1546; e-mail address: kim.elizabeth@epa.gov.

SUPPLEMENTARY INFORMATION: EPA has established a public docket for this ICR under Docket ID number OW-2003-0081, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are operators of cruise lines and individual cruise ships authorized to carry for hire 500 or more passengers that operate in and near waters of the State of Alaska.

Title: Survey Questionnaire to Determine the Effectiveness, Costs, and Impacts of Sewage and Graywater Treatment Devices for Large Cruise Ships Operating in Alaska.

Abstract: On December 12, 2000, Congress passed HR 4577 (Pub. L. 106-554), “Department of Labor, Health and Human Services, and Education, and Related Agencies Appropriations Act.” This act included a section, entitled “Title XIV: Certain Alaskan Cruise Ship Operations” (33 U.S.C. 1902 Note). Title XIV set requirements for the discharge of sewage and graywater from cruise ships capable of carrying for hire 500 or more passengers while operating in the waters of the Alexander Archipelago and the navigable waters of the United States within the State of Alaska and within the Kachemak Bay National Estuarine Research Reserve. Title XIV also authorized that:

the Administrator [of the EPA] may promulgate effluent standards for treated sewage (human body waste and the wastes from toilets and other receptacles intended to receive or retain human body waste) and graywater (galley, dishwasher, bath, and laundry waste water) from cruise vessels operating in the waters of the Alexander Archipelago or the navigable waters of the United States within the State of Alaska or within the Kachemak Bay National Estuarine Research Reserve. Regulations implementing such standards shall take into account the best available scientific information on the environmental effects of the regulated discharges and the availability of new technologies for wastewater treatment.

EPA has begun an effort to develop and promulgate regulations, as necessary and appropriate, for controlling the discharge of sewage and graywater from cruise ships covered by Title XIV. Title XIV provides that the authority of sections 308(a) and 308(b) of the Clean Water Act, regarding records, reports, and inspections, shall be available to carry out the provisions of the Act (section 1413). EPA is in the process of preparing an ICR for OMB approval for gathering data in support of this rulemaking. The ICR would request approval to collect information from cruise lines and each cruise ship covered by Title XIV.

The information to be gathered with a survey questionnaire would include: general information regarding the cruise line and each of the cruise vessels authorized to carry for hire 500 or more passengers in waters in and near Alaska (e.g., size, capacity, ports of call); description of sources of graywater; ship-board plumbing systems; data describing the effectiveness of sewage and graywater treatment systems and marine sanitation devices (MSDs) operating on these large vessels at removing pollutants of concern; costs of these systems; pollution prevention programs and management practices; information pertinent to environmental assessment; and financial information and data necessary for economic impact analysis. When possible, EPA would use available information to complete answers to some questions. In these cases, the respondent would be asked to verify the information and update it if necessary. The survey questionnaire would provide instructions on the procedures for making CBI claims, if necessary, and the respondents would be informed of the rules governing protection of CBI, obtained under the Clean Water Act, for information that warrants such claims.

In a related effort that would not be covered by the Paperwork Reduction Act, EPA intends to sample and analyze wastewaters from three to five yet-to-be selected vessels operating in Alaska during the summer of 2004. The purpose of this sampling would be to characterize the on-board performance of various sewage and graywater treatment systems. EPA would like to solicit comments on this sampling effort. Subsequent to the publication of this notice, EPA intends to consult with cruise lines and other stakeholders to select technologies and vessels to be sampled, and will make specific information for this activity available for further public comment in the second Federal Register notice for the survey ICR.

EPA also intends to continue to supplement these primary sources by gathering additional publicly available information and data from the Alaska Department of Environmental Conservation (ADEC) and the U.S. Coast Guard (USCG), the cruise ship industry, and other stakeholders.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that 12 cruise line operators would respond to the survey for each of the 32 vessels operating in Alaska. EPA estimates it would take an average of approximately 48 hours to complete and review responses to the survey questionnaire and associated data submissions for each cruise ship that is certified by the U.S. Coast Guard to discharge continuously in the waters in and near Alaska under 33 CFR 159.309. This estimate includes the burden for verifying and updating “draft” responses provided by EPA to a portion of the questions. EPA estimates that the total burden for cruise lines operating the 18 vessels certified to discharge continuously under 33 CFR 159.309 would be approximately 864 hours, or $34,000 assuming an average labor rate for the likely range of personnel involved in responding.

For the remaining 14 ships that do not have wastewater treatment systems authorized to discharge continuously, EPA estimates it would take an average of approximately 16 hours to complete and review responses to the survey questionnaire. EPA estimates that the total burden for these 14 vessels would be approximately 224 hours, or $9,000 assuming an average labor rate for the likely range of personnel involved in responding.

EPA estimates that the total burden to the 12 cruise lines operating 32 vessels for responding to the survey questionnaire would be approximately 1088 hours, or $43,000. EPA estimates that there would be no start up or capital cost associated with responding to the surveys described above.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 20, 2004.
Suzanne E. Schwartz,
Director, Oceans and Coastal Protection Division.

[FR Doc. 04-2154 Filed 2-2-04; 8:45 am]

BILLING CODE 6560-50-P